DEPARTMENT OF HEALTH AND HUMAN SERVICES

Health Resources and Service Administration

National Advisory Council on the National Health Service Corps

AGENCY: Department of Health and Human Services (HHS), Health Resources and Service Administration (HRSA).

ACTION: Notice.

SUMMARY: In accordance with the Federal Advisory Committee Act, the National Advisory Council on the National Health Service Corps (NACNHSC) has scheduled public meetings for the 2019 calendar year (CY). Information about the NACNHSC, agendas, and materials for these meetings can be found on the NACNHSC website at https://nhsc.hrsa.gov/about/national-advisory-council-nhsc/index.html.

DATES: April 2-3, 2019, from 8:30 a.m.-5:00 p.m. Eastern Time (ET) and September 17-18, 2019, from 8:30 a.m.-5:00 p.m. ET.

ADDRESSES: The April 2-3, 2019, meeting will be held by webinar. The September 17-18, 2019, meeting will be held in-person at 5600 Fishers Lane, Rockville, Maryland 20857. Additional instructions for joining the meetings either in person or remotely will be posted on the NACNHSC website 30 business days before the date of the meeting. For meeting information updates, go to the NACNHSC website meeting page at https://nhsc.hrsa.gov/nac/meetings.html.

FOR FURTHER INFORMATION CONTACT: Diane Fabiyi-King, Designated Federal Official, Division of National Health Service Corps; Bureau of Health Workforce, HRSA, 5600 Fishers Lane, Rockville, Maryland 20857; (301) 443-3609; BHWNACNHSC@hrsa.gov.

SUPPLEMENTARY INFORMATION: The NACNHSC was established by section 337 of the Public Health Service (PHS) Act (42 U.S.C. 254j), as enacted by Public Law (Pub. L.) 92-463, and as subsequently amended, and advises the Secretary of HHS (the Secretary) on issues related to NHSC responsibilities. During the CY 2019 meetings, NACNHSC will discuss and draft policy recommendations for submission to the Secretary and the HRSA Administrator. Agenda items are subject to change as priorities dictate. Refer to the NACNHSC website for any updated information concerning the CY 2019 meetings.

Members of the public will have the opportunity to provide comments. Public participants may submit written statements in advance of the scheduled meetings. Oral comments will be honored in the order they are requested and may be limited as time allows. Requests to submit a written statement or make oral comments to the NACNHSC should be sent to Diane Fabiyi-King, DFO, at the contact information listed above at least five business days before the meeting dates. Individuals who need special assistance or another reasonable accommodation should notify Diane Fabiyi-King, DFO at the address and phone number listed above at least 10 business days before the meetings they wish to attend. Since all in person meetings will occur in a federal government building, attendees must go through a security check to enter the building. Non-U.S. Citizen attendees must notify HRSA of their planned attendance at least 20 business days prior to the meeting in order to facilitate their entry into the building. All attendees are required to present government-issued identification prior to entry.

Amy P. McNulty,
Acting Director, Division of the Executive Secretariat.

[FR Doc. 2019-03180 Filed 2-22-19; 8:45 am]

BILLING CODE 4165-15-P